ENVIRONMENTAL PROTECTION AGENCY

40 CFR Part 63

[FRL-7105-1]

RIN 2060-AH75

National Emission Standards for Hazardous Air Pollutants: Hydrochloric Acid Production

AGENCY: Environmental Protection Agency (EPA).

ACTION: Extension of public comment period.

SUMMARY: The EPA is announcing the extension of the public comment period on the proposed national emission standards for hazardous air pollutants for hydrochloric acid (HCl) production facilities, including HCl production at fume silica facilities. The EPA originally requested comments on the proposed rule by November 19, 2001 (66 FR 48174, September 18, 2001). We are extending the deadline to December 19, 2001, and are now requesting written comments by that date because we have received requests for a 30-day extension from the Chlorine Institute, Incorporated, and the Dow Chemical Company. The reasons given for these requests were: to assess comprehensively the implications of the many nuances of the proposed rule; and the need for HCl producers to address increased security issues resulting from the incidents of September 11 which kept key personnel from focusing on the proposed rule within the original 60-day period. We find these requests reasonable.

DATES: Comments may be submitted by December 19, 2001.

ADDRESSES: Comments. By U.S. Postal Service, send comments (in duplicate if possible) to: Air and Radiation Docket and Information Center (6102), Attention Docket Number A-99-41, U.S. EPA, 1200 Pennsylvania Avenue, NW, Washington, DC 20460. In person or by courier, deliver comments (in duplicate if possible) to: Air and Radiation Docket and Information Center (6102), Attention Docket Number A-99-41, U.S. EPA, 401 M Street, SW., Washington, DC 20460. The EPA requests a separate copy also be sent to the contact person listed in the FOR FURTHER INFORMATION CONTACT section. Comments may be submitted by electronic mail (e-mail) to: a-and-r-docket@epa.gov. Comments submitted by e-mail must be submitted as an ASCII file to avoid the use of special characters and encryption problems. Comments will also be accepted on disks in WordPerfect” version 5.1, 6.1, or 8 file format. All comments and data submitted in electronic form must be identified by the docket number A-99-41. No confidential business information (CBI) should be submitted by e-mail. Electronic comments may be filed online at many Federal Depository Libraries.

Commenters wishing to submit proprietary information for consideration must clearly distinguish such information from other comments and clearly label it as CBI. Send submissions containing such proprietary information directly to the following address, and not to the public docket, to ensure that proprietary information is not inadvertently placed in the docket: OAQPS Document Control Officer, C404-02, Attention: Mr. Bill Maxwell, U.S. EPA, Research Triangle Park, NC 27711. The EPA will disclose information identified as CBI only to the extent allowed by the procedures set forth in 40 CFR part 2. If no claim of confidentiality accompanies a submission when it is received by EPA, the information may be made available to the public without further notice to the commenter.

Docket. Information related to the proposed standards is available for inspection at the Air and Radiation Docket and Information Center, Docket No. A-99-41. The docket is located at the U.S. EPA, 401 M Street, SW, Room M-1500 (ground floor, Waterside Mall), Washington, DC 20460, telephone (202) 260-7548. The docket is available for public inspection and copying between 8:00 a.m. and 5:30 p.m., Monday through Friday, excluding legal holidays. A reasonable fee may be charged for copying.

FOR FURTHER INFORMATION CONTACT: Mr. Bill Maxwell, Combustion Group, Emission Standards Division, C439-01, U.S. EPA, Research Triangle Park, North Carolina 27711; telephone number (919) 541-5430; facsimile number (919) 541-5450; electronic mail address: maxwell.bill@epa.gov.

List of Subjects in 40 CFR Part 63

Environmental protection, Administrative practice and procedure, Air pollution control, Hazardous substances, Intergovernmental relations, Recordkeeping and reporting requirements.

Dated: November 9, 2001.
Robert Brenner,
Acting Assistant Administrator for Air and Radiation.

[FR Doc. 01-28857 Filed 11-16-01; 8:45 am]

BILLING CODE 6560-50-P